DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project on Interstate 280 (PM 4.5/5.3), Interstate 880 (PM 0.0/0.5), and State Route 17 (PM 13.3/13.9) in the City of San Jose, County of Santa Clara, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 1, 2025. If the Federal law that authorizes judicial review of a claim provides a time period of less than 150 days for filing such claim, then that shorter time period still applies.

FOR FURTHER INFORMATION CONTACT: For Caltrans: Brian Gassner, Environmental Branch Chief, 111 Grand Avenue, Oakland, CA 94612, M-F (8 a.m.-4 p.m.), 510-506-0372, brian.gassner@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: Interstate 280/Winchester Boulevard Interchange Improvements Project, primarily consisting of (1) modifying the existing I-280/Winchester Boulevard interchange by constructing a new tunnel off-ramp from northbound I-280 to Winchester Boulevard, (2) constructing a new direct connector ramp from northbound SR-17 to northbound I-280, and (3) replacing the existing Monroe Pedestrian Overcrossing. The actions by Caltrans, and the laws under which such actions were taken, are described in the Environmental Assessment with Finding of No Significant Impact (EA/FONSI) for the project, approved on September 4, 2024, and in other documents in the FHWA project records. The EA/FONSI and other project records are available by contacting Caltrans at the address provided above. The EA/FONSI can be viewed and downloaded from the project website at https://www.vta.org/projects/i-280winchester-boulevard-interchange-improvements or viewed at the Bascom Branch of the San Jose Public Library, 1000 S Bascom Avenue, San Jose, CA 95128 in the project area.

This notice applies to all Federal agency decisions as of the issuance date of this notice and all laws under which such actions were taken, including but not limited to:

1. National Environmental Policy Act of 1969, as amended, 42 U.S.C. 4321 et seq.

2. Department of Transportation Act of 1966, Section 4(f)

3. Clean Air Act Amendments of 1990 (CAAA)

4. Clean Water Act of 1977 and 1987

5. Comprehensive Environmental Response, Compensation, and Liability Act of 1980, as amended (CERCLA)

6. Noise Control Act of 1972

7. Endangered Species Act of 1973

8. Executive Order 13112, Invasive Species (February 3, 1999)

9. Migratory Bird Treaty Act of 1918, as amended

10. Executive Order 11988, Floodplain Management (May 24, 1977)

11. Title VI of the Civil Rights Act of 1964, as amended

12. Uniform Relocation Assistance and Real Property Acquisition Act of 1970, as amended

13. National Historic Preservation Act of 1966, as amended (Section 106)

(Catalog of Federal Domestic Assistance Program Number 20.205, Highway Planning and Construction. The regulations implementing Executive Order 12372 regarding intergovernmental consultation on Federal programs and activities apply to this program.)

(Authority: 23 U.S.C. 139(l)(1))

Antonio Johnson,
Director of Planning, Environmental and Right of Way, Federal Highway Administration, California Division.

[FR Doc. 2025-12320 Filed 7-1-25; 8:45 am]

BILLING CODE 4910-RY-P